FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 007778N.

Name: International Aero-Sea Forwarders Ltd.

Address: 35-22 Tongeui-Dong, Chongro-Ku, Seoul, Korea.

Date Revoked: May 14, 2005.

Reason: Failed to maintain a valid bond.

License Number: 017312F.

Name: Manila Forwarders, LLC.

Address: 3228 Madera Avenue, Los Angeles, CA 90039.

Date Revoked: February 4, 2005.

Reason: Failed to maintain a valid bond.

License Number: 017761N.

Name: U.S. Rich Long, Inc. dba Agend Logistics Company

Address: 10932 Schmidt Road, #H, El Monte, CA 91733

Date Revoked: February 25, 2005.

Reason: Surrendered license voluntarily.

Sandra L. Kusumoto,
Director, Bureau of Certification and Licensing.

[FR Doc. 05-10443 Filed 5-24-05; 8:45 am]

BILLING CODE 6730-01-P